FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 9, 2013.

A. Federal Reserve Bank of Richmond (Adam M. Drimer, Assistant Vice President) 701 East Byrd Street, Richmond, Virginia 23261-4528:

1. Gordon A. Baird, Darien, Connecticut; individually and as part of a group acting in concert with Alvin G. Hageman, Westport, Connecticut, and Baird Hageman & Co., LLC, Darien, Connecticut, to acquire voting shares of Independence Bancshares, Inc., and thereby indirectly acquire voting shares of Independence National Bank, both in Greenville, South Carolina.

B. Federal Reserve Bank of Minneapolis (Jacqueline G. King, Community Affairs Officer) 90 Hennepin Avenue, Minneapolis, Minnesota 55480-0291:

1. Jack W. Steele Irrevocable Trust and the 2012 Donna D. Steele Irrevocable Trust (“Trusts”), both of Huron, South Dakota; Preston B. Steele, and Tasha J. Lee, individually and as co-trustees of Trusts, both of Huron, South Dakota; and American Bank & Trust, Wessington Springs, South Dakota, as trustee of Trusts, to retain or acquire voting shares of Leackco Bank Holding Company, Inc., Wolsey, South Dakota, and thereby indirectly retain and acquire voting shares of American Bank & Trust, Wessington Springs, South Dakota, and American State Bank of Pierre, Pierre, South Dakota.

C. Federal Reserve Bank of Dallas (E. Ann Worthy, Vice President) 2200 North Pearl Street, Dallas, Texas 75201-2272:

1. Victor Abraham, Irving, Texas; to acquire voting shares of Providence Bancshares Corporation, and thereby acquire voting shares of Providence Bank of Texas, SSB, both in Southlake, Texas.

Board of Governors of the Federal Reserve System, March 20, 2013.
Michael J. Lewandowski,
Assistant Secretary of the Board.

[FR Doc. 2013-06775 Filed 3-25-13; 8:45 am]

BILLING CODE 6210-01-P